DEPARTMENT OF VETERANS AFFAIRS

[OMB Control No. 2900-0516]

Agency Information Collection Activity: Loan Guaranty: Processing Assumptions of VA-Guaranteed Home Loans

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed reinstatement of a previously approved collection, and allow 60 days for public comment in response to the notice.

DATES: Written comments and recommendations on the proposed collection of information should be received on or before July 29, 2024.

ADDRESSES: Submit written comments on the collection of information through Federal Docket Management System (FDMS) at www.regulations.gov.

FOR FURTHER INFORMATION CONTACT:

Program-Specific information: Nancy Kessinger, 202-632-8924, Nancy.Kessinger@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Loan Guaranty: Processing Assumptions of VA-Guaranteed Home Loans under 38 U.S.C. 3714.

OMB Control Number: 2900-0516. https://www.reginfo.gov/public/do/PRASearch

Type of Review: Reinstatement of a previously approved collection.

Abstract: The collection of information is through electronic submission and is accomplished only once per respondent, per loan assumption transaction. This collection is necessary to identify the individual case to ensure VA has met all legal requirements concerning collection of the above-discussed credit package under 38 CFR 36.4301 and copy of the executed deed and/or assumption agreement pursuant to 38 CFR 36.4303(l)(1)(i)(A).

Affected Public: Individuals and households.

Estimated Annual Burden: 514 hours.

Estimated Average Burden per Respondent: 15 minutes.

Frequency of Response: One time.

Estimated Number of Respondents: 2,055.

Authority: 44 U.S.C. 3501 et seq, 38 U.S.C. 3714 et seq.

Maribel Aponte,
VA PRA Clearance Officer, Office of Enterprise and Integration/Data Governance Analytics, Department of Veterans Affairs.

[FR Doc. 2024-11737 Filed 5-28-24; 8:45 am]

BILLING CODE 8320-01-P